NEIGHBORHOOD REINVESTMENT CORPORATION

Neighborworks® America Regular Board of Directors Meeting; Sunshine Act

Time and Date: 2 p.m., Wednesday, October 24, 2007.

Place: 1325 G Street, NW., Suite 800, Boardroom, Washington, DC 20005.

Status: Open.

Contact Person for More Information: Erica Hall, Assistant Corporate Secretary, (202) 220-2376; ehall@nw.org.

Agenda:

I. Call to Order.

II. Approval of the Minutes.

III. Summary Report of the Finance, Budget and Program Committee.

IV. Summary Report of the Audit Committee.

V. Summary Report of the Audit Committee.

VI. Summary Report of the Corporate Administration Committee.

VII. Financial Report.

VIII. Corporate Scorecard.

IX. Chief Executive Officer's Quarterly Management Report.

X. Field Operations Presentation.

Adjournment.

Erica L. Hall
Assistant Corporate Secretary.

[FR Doc. 07-5225 Filed 10-18-07; 2:12 pm]

BILLING CODE 7570-02-M